ENVIRONMENTAL PROTECTION AGENCY

[ER-FRL-6653-1]

Environmental Impact Statements; Notice of Availability

Responsible Agency: Office of Federal Activities, General Information (202) 564-7167 or http://www.epa.gov/compliance/nepa.

Emergency Publication of Environmental Impact Statements

Filed June 23, 2004

Pursuant to 40 CFR 1506.9.

EIS No. 040296, Final Supplement, NOA, Final Rule to Implement Management Measures for the Reduction of Sea Turtle Bycatch and Bycatch Mortality in the Atlantic Pelagic Longline Fishery, Wait Period Ends: June 29, 2004, Contact: Christopher Rogers (301) 713-2347.

Under Section 1502.9(c)(4) the Council on Environmental Quality (CEQ) has Approved Alternative Procedures for the above Final Supplemental EIS by Granting a 26-Day Waiver on the above standard 30 day Wait Period before NOAA can issue their Record of Decision.

Comments can be submitted by e-mail to 0648-AR80.final@noaa.gov, include the following identifier 0648-AR80 in the comment subject line. This document is available on the Internet at: http//www.nmfs.noaa.gov/sfa/hms/hmsdocuments.htm1#feis.

Dated: June 23, 2004.
Ken Mittelholtz,
Environmental Protection Specialist, Office of Federal Activities.

[FR Doc. 04-14570 Filed 6-24-04; 8:45 am]

BILLING CODE 6560-50-P